DEPARTMENT OF EDUCATION

[CFDA No. 84.341]

Community Technology Centers Program

AGENCY: Office of Vocational and Adult Education, Department of Education.

ACTION: Notice inviting applications for new awards for fiscal year (FY) 2003; correction.

SUMMARY: On June 3, 2003 a notice inviting applications for new awards for the Community Technology Centers Program for FY 2003 was published in the Federal Register (68 FR 33321).

On page 33323, in column one, the “Deadline for Transmittal of Applications” date reads “June 30, 2003” and the “Deadline for Intergovernmental Review” date reads “August 29, 2003”. These dates, respectively, are corrected to read “July 7, 2003” and “September 5, 2003”.

FOR FURTHER INFORMATION CONTACT: If you need further assistance and need to speak with someone in the CTC program, you may contact Gisela Harkin by phone at (202) 205-4238, by mail at 330 C Street, SW., Room 4324, Washington, DC 20202, or via e-mail at commtech.center@ed.gov.

If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

Electronic Access to This Document

You may view this document, as well as all other Department of Education documents published in the Federal Register, in text or Adobe Portable Document Format (PDF) on the Internet at the following site: http://www.ed.gov/legislation/FedRegister

To use PDF you must have Adobe Acrobat Reader, which is available free at this site. If you have questions about using PDF, call the U.S. Government Printing Office (GPO), toll free, at 1-888-293-6498, or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 7263-7263b.

Dated: June 6, 2003.
Carol D'Amico,
Assistant Secretary for Vocational and Adult Education.

[FR Doc. 03-14718 Filed 6-10-03; 8:45 am]

BILLING CODE 4000-01-M